DEPARTMENT OF HEALTH AND HUMAN SERVICES

National Institutes of Health

Prospective Grant of Exclusive License: Treatment of Glaucoma by Administration of Adenosine A3 Antagonists

AGENCY: National Institutes of Health, Public Health Service, HHS.

ACTION: Notice.

SUMMARY: This is notice, in accordance with 35 U.S.C. 209(c)(1) and 37 CFR part 404.7(a)(1)(i), that the National Institutes of Health, Department of Health and Human Services, is contemplating the grant of an exclusive patent license to practice the inventions embodied in U.S. Provisional Patent Application 60/010,737, entitled “Dihydropyridine, pyridine-, benzopyran one-, and triazoloquinazoline derivatives, their preparation and use as adenosine receptor antagonists,” filed January 29, 1996 [HHS Ref. No. E-225-1995/0-US-1], U.S. Provisional Patent Application 60/021,191, entitled “Dihydropyridine, pyridine-, benzopyran one-, and triazoloquinazoline derivatives, their preparation and use as adenosine receptor antagonists,” filed July 3, 1996 [HHS Ref. No. E-225-1995/1-US-1], PCT Application PCT/US97/01252, entitled “Dihydropyridine, pyridine-, benzopyran one-, and triazoloquinazoline derivatives, their preparation and use as adenosine receptor antagonists,” filed January 29, 1997 [HHS Ref. No. E-225-1995/2-PCT-1], U.S. Patent 6,066,642, entitled “Dihydropyridine, pyridine-, benzopyran one-, and triazoloquinazoline derivatives, their preparation and use as adenosine receptor antagonists,” issued May 23, 2000 [HHS Ref. No. E-225-1995/2-US-08], Australian Patent 709190, issued December 9, 1999 [HHS Ref. No. E-225-1995/2-AU-04], European Patent Application No. 97905627.2, filed January 29, 1997 [HHS Ref. No. E-225-1995/2-EP-05], Hong Kong Application No. 99102653.6, filed January 29, 1997 [HHS Ref. No. E-225-1995/2-HK-06], Japanese Patent Application No. 527065/1997, filed January 29, 1997 [HHS Ref. No. E-225-1995/2-JP-07], Australian Patent 755525, issued March 27, 2003 [HHS Ref. No. E-225-1995/2-AU-02], and Canadian Patent 2244774, issued October 17, 2006 [HHS Ref. No. E-225-1995/2-CA-03], U.S. Provisional Patent Application 60/092,292, entitled “A3 Adenosine Receptor Antagonists,” filed July 10, 1998 [HHS Ref. No. E-096-1998/0-US-1], PCT Application PCT/US99/15562, entitled”A3 Adenosine Receptor Antagonists,” filed July 2, 1999 [HHS Ref. No. E-096-1998/0-PCT-2], U.S. Patent 6,376,521, entitled “A3 Adenosine Receptor Antagonists,” issued April 23, 2003, [HHS Ref. No. E-096-1998/0-US-04], and Canadian Patent Application No. 2336967, filed July 2, 1999 [HHS Ref. No. E-096-1998/0-CA-03], U.S. Provisional Patent Application 61/085,588, entitled “Truncated Methanacarba Adenosine Derivatives as A3 Antagonists,” filed August 1, 2008 [HHS Ref. No. E-285-2008/0-US-1], PCT Application PCT/US2009/52439, entitled “Truncated Methanacarba Adenosine Derivatives as A3 Antagonists,” filed July 31, 2009 [HHS Ref. No. E-285-2008/0-PCT-2], and Korean International Application No. PCT/KR2007/001131, entitled “Adenosine derivatives, method of synthesis thereof, and the pharmaceutical compositions for the prevention and treatment of the inflammatory diseases containing the same as an active ingredient,” filed March 7, 2007, [HHS Ref. No. E-109-2006/0-PCT-01] to Acorn Biomedical, Inc., having an office in at 612 SE. 5th Avenue, Suite #3, Fort Lauderdale, FL 33301 U.S.A. The patent rights in these inventions have been assigned to the United States of America.

The prospective exclusive license territory may be worldwide, and the field of use may be limited to the use of adenosine A3 antagonists for treatment of glaucoma and intraocular pressure.

DATES: Only written comments and/or applications for a license which are received by the NIH Office of Technology Transfer on or before March 29, 2010 will be considered.

ADDRESSES: Requests for copies of the patent application, inquiries, comments, and other materials relating to the contemplated exclusive license should be directed to: Steven Standley, Ph.D., Licensing and Patenting Manager, Office of Technology Transfer, National Institutes of Health, 6011 Executive Boulevard, Suite 325, Rockville, MD 20852-3804; Telephone: (301) 435-4074; Facsimile: (301) 402-0220; E-mail: sstand@od.nih.gov.

SUPPLEMENTARY INFORMATION: Adenosine a3 antagonists applied topically to the cornea have been shown to cause a reduction in intraocular pressure, which is a means of treating glaucoma.

The invention relates to several structurally different pharmacophores that have been shown to antagonize adenosine a3 receptors. Molecules are to be tested to optimize for the treatment of glaucoma and intraocular pressure in humans.

The prospective exclusive license will be royalty bearing and will comply with the terms and conditions of 35 U.S.C. 209 and 37 CFR part 404.7. The prospective exclusive license may be granted unless within thirty (30) days from the date of this published notice, the NIH receives written evidence and argument that establishes that the grant of the license would not be consistent with the requirements of 35 U.S.C. 209 and 37 CFR part 404.7.

Applications for a license in the field of use filed in response to this notice will be treated as objections to the grant of the contemplated exclusive license. Comments and objections submitted to this notice will not be made available for public inspection and, to the extent permitted by law, will not be released under the Freedom of Information Act, 5 U.S.C. 552.

Dated: February 16, 2010.
Richard U. Rodriguez,
Director, Division of Technology Development and Transfer, Office of Technology Transfer, National Institutes of Health.

[FR Doc. 2010-3907 Filed 2-25-10; 8:45 am]

BILLING CODE 4140-01-P